ENVIRONMENTAL PROTECTION AGENCY

[EPA-HQ-OECA-2018-0248; FRL-10155-01-OECA]

Proposed Information Collection Request; Comment Request; Air Stationary Source Compliance and Enforcement Information Reporting (Renewal)

AGENCY: Environmental Protection Agency (EPA).

ACTION: Notice.

SUMMARY: The U.S. Environmental Protection Agency is planning to submit an information collection request (ICR), the Air Stationary Source Compliance and Enforcement Information Reporting (Renewal) (EPA ICR No. 0107.13, OMB Control No. 2060-0096) to the Office of Management and Budget (OMB) for review and approval in accordance with the Paperwork Reduction Act. Before doing so, EPA is soliciting public comments on specific aspects of the proposed information collection as described below. This is a proposed extension of the currently approved ICR. An Agency may not conduct or sponsor and a person is not required to respond to a collection of information unless it displays a currently valid OMB control number.

DATES: Comments must be submitted on or before October 25, 2022.

ADDRESSES: Submit your comments, referencing the Docket ID number EPA-HQ-OECA-2018-0248, online using https://www.regulations.gov/ (our preferred method), by email to a-and-r-docket@epa.gov, or by mail to: EPA Docket Center, Environmental Protection Agency, Mail Code 28221T, 1200 Pennsylvania Ave. NW, Washington, DC 20460.

The EPA's policy is that all relevant comments received will be included in the public docket without change including any personal information provided, unless the comment includes profanity, threats, information claimed to be Confidential Business Information (CBI) or other information whose disclosure is restricted by statute. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Mr. David A. Meredith, Enforcement Targeting and Data Division, Office of Compliance, (2222A), U.S. Environmental Protection Agency, 1200 Pennsylvania Ave. NW, Washington, DC 20460; telephone number: 202-564-4152; email address: meredith.david@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the Docket Center is 202-566-1744. For additional information about EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, the EPA will issue another Federal Register document to announce the submission of the ICR to OMB and the opportunity to submit additional comments to OMB.

Abstract: Air Stationary Source Compliance and Enforcement Information Reporting is an activity whereby State, Local, Native American, Territorial, and Commonwealth governments (hereafter referred to as either “states/locals” or “state and local agencies”) make air stationary source compliance and enforcement information available to the U.S. Environmental Protection Agency (EPA or the Agency) on a cyclic basis via input to the Air component of the Integrated Compliance Information System (ICIS-Air). ICIS-Air supports EPA and state and local agency efforts to ensure compliance with the nation's environmental laws pertaining to air, via the collection and management of important Clean Air Act (CAA or the “Act”) compliance and enforcement information. ICIS-Air is a subcomponent of ICIS, which provides compliance and enforcement information on thousands of facilities regulated under numerous federal statutes. The majority of delegated agencies maintain their own data system and extract data from it and report it to ICIS-Air using either electronic data transfer (EDT) or manually (“direct entry”). A small number of delegated agencies use ICIS-Air exclusively, since they have no internal air compliance and enforcement database. The information provided to EPA via ICIS-Air includes source characterization, compliance monitoring, and enforcement activities. The EPA uses this information and information from other data systems, such as the Compliance and Emissions Data Interface (CEDRI) to assess the health of the compliance and enforcement program established under the Clean Air Act (CAA), to perform oversight activities of delegated agencies, and to provide public transparency about activities and findings related to compliance and enforcement both at individual facilities or aggregated categories of facilities. The EPA also uses ICIS-Air to record comparable federal activities to support program management and transparency. Agencies receive delegation of the CAA through regulated grant authorities, and report compliance/enforcement activities undertaken at stationary sources pursuant to the Minimum Data Requirements (MDRs) as outlined in this ICR. The provisions of section 114(a)(1) of the Clean Air Act, 42 U.S.C. 7414(a)(1) provide the broad authority for the reporting of compliance monitoring and enforcement information, along with Subpart Q—Reports in 40 CFR part 51: §§ 51.324(a) and (b) and 51.327. This renewal requires the continuation of reporting of previously established MDRs via either direct, on-line entry or electronic data transfer (EDT) to ICIS-Air.

The EPA collects compliance data from regulated sources via CEDRI and tracks enforcement and compliance monitoring information for stationary sources from delegated agencies and EPA Regions via ICIS-Air. The EPA is considering a process to standardize the facility identification process so that data can easily be shared across systems. As such, the EPA seeks comments, on a voluntary basis, regarding the following issues and questions we consider improvements to the integration of ICIS-Air and CEDRI information.

• The EPA seeks comments on whether it would be beneficial for the EPA to import facilities from CEDRI into ICIS-Air that are currently not found in ICIS-Air and create a means to link those facilities for purposes of more comprehensive compliance tracking. Additionally, we are seeking comment on, for cases where a delegated agency uses EDT to share data with EPA, whether the delegated agency would want the ability to create facilities from CEDRI facilities and manage those data in the delegated agency's database.

• Assuming that some delegated agencies are reviewing compliance reports within CEDRI, the EPA seeks comments on how data within the CEDRI reports could be provided to ICIS-Air to reduce the need for overlapping data entry in ICIS-Air. We are seeking comment on whether delegated agencies perceive that there are identical data in CEDRI reports and data uploads into ICIS-Air, and whether data exists in CEDRI but not in ICIS-Air that would be helpful to share with ICIS-Air. We are specifically seeking comment on which data would be most helpful to share between the systems.

• The EPA is seeking comment on the utility of future functionality that would automatically flag situations within ICIS-Air when a CEDRI compliance report is due, but not received by the deadline.

• The EPA is seeking information on whether delegated agencies that do not currently provide Title V Certifications to CEDRI plan to do so in the near future.

• The EPA seeks comments on whether we should consider requiring that violations have a linkage to a discovery action, or CEDRI ID number, so that ECHO users can understand the activity that led to the violation finding(s).

• The EPA seeks comments on whether we should consider, in the future, developing a new reporting approach for delegated agencies that provide the CEDRI document ID to limit potential duplicate data entry (for example, linking certain fields that would not have to be manually entered).

• The EPA has begun collecting benzene fenceline monitoring data from refineries on a bi-weekly basis. We seek comment on whether, when deficiencies are noted that require follow-up actions by the facility, those deficiencies should be populated into ICIS-Air and shared via ECHO.

• Through CEDRI, the EPA is receiving performance reports directly from regulated entities. Some of these reports are used by delegated agencies to make compliance determinations. The EPA seeks comments on the effectiveness of the current process of making these reports accessible through the Agency's WebFIRE website and suggestions for improvements that could assist delegated agencies with making compliance determinations.

• Finally, we seek comments on whether having a common facility numbering protocol for ICIS-Air and CEDRI would improve the overall management of the CAA program and associated data.

Although we are soliciting comment on these issues, the EPA intends to continue the status quo with respect to the minimum data requirements reported to ICIS-Air at this time. We will consider any comments received as we evaluate potential future improvements to the integration of information collected via ICIS-Air and CEDRI. The anticipated burden requirements for the current minimum data requirements associated with ICIS-Air are as follows:

Respondents: State, Local, Territorial, Indian Nations, and Commonwealth governments.

Respondent's obligation to respond: Mandatory (section 114(a)(1) of the Clean Air Act, 42 U.S.C. 7414(a)(1)).

Estimated number of respondents: 99.

Frequency of response: Every 60 days.

Estimated annual burden: 26,100 hours.

Estimated annual cost: $1,280,000. There are no annualized capital/startup or operation & maintenance costs.

Changes in estimates: There is no anticipated change in burden from the most recently approved ICR as currently identified in the OMB Inventory of Approved Burdens. This is due to several considerations. First, the ICIS-Air reporting system and minimum data reporting requirements have not changed over the past three years. Second, there is no anticipated change in the number of respondents or the number of responses from the prior ICR, so there is likely no significant change in the overall burden. For this ICR renewal, EPA will use experience from the last three years to provide burden estimates that adequately reflect the actual burden. EPA will consider any comments received and will conduct consultation with delegated agencies that are use ICIS-Air. There are no capital/startup or operation and maintenance (O&M) costs associated with this reporting activity. There is likely a slight increase in costs, due to the use of updated labor rates. This ICR will use labor rates from the most recent Office of Personnel Management (OPM), 2022 General Schedule.

John Dombrowski,
Director, Office of Compliance.

[FR Doc. 2022-18425 Filed 8-25-22; 8:45 am]

BILLING CODE 6560-50-P